FEDERAL COMMUNICATIONS COMMISSION

47 CFR Parts 1 and 25

[IB Docket Nos. 22-411, 22-271; FCC 23-73; FR ID 188524]

Expediting Initial Processing of Satellite and Earth Station Applications

AGENCY: Federal Communications Commission.

ACTION: Proposed rule.

SUMMARY: In this document, the Federal Communications Commission (Commission) continues its long-standing practice of reviewing its licensing rules and practices in light of innovation and development in the satellite industry and seeks further comment on possible further streamlining and expediting of its rules. Proposals include: elimination of the procedural requirement to print and maintain a paper copy of a license; changing the default status of space and earth station proceedings to permit-but-disclose; allowing earth station operators to apply for and receive a limited license without an identified satellite point of communication. The Commission also seeks comment on: additional minor modifications to be made by operators without prior authorization from the Commission; whether to provide a process for market access petitioners to seek the equivalent of a special temporary authorization (STA); whether to expand the window for operators to file renewal applications for existing licenses; further streamlining some of its coordination requirements for earth and space station operators; expanding the conditions under which earth station operators could access the new, streamlined “deemed-granted” process for adding points of communications; timeframes for taking action on license applications; allowing operators to file STA extensions concurrently with an STA application; and on the creation of a permitted list that would include NGSO operators.

DATES: Comments are due January 8, 2024. Reply comments are due February 6, 2024.

ADDRESSES: You may submit comments, identified by IB Docket Nos. 22-411, 22-271, by any of the following methods:

• FCC Website: http://apps.fcc.gov/ecfs. Follow the instructions for submitting comments.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Julia Malette, Satellite Programs and Policy Division, Space Bureau, 202-418-2453 or julia.malette@fcc.gov.

SUPPLEMENTARY INFORMATION: This is a summary of the Commission's Further Notice of Proposed Rulemaking (FNPRM), FCC 23-73, adopted September 21, 2023, and released September 22, 2023. The full text is available online at https://docs.fcc.gov/public/attachments/FCC-23-73A1.pdf. To request materials in accessible formats for people with disabilities (e.g., Braille, large print, electronic files, audio format, etc.), send an email to FCC504@fcc.gov or call the Consumer & Governmental Affairs Bureau at 202-418-0530 (voice), 202-418-0432 (TTY).

Procedural Matters

Comment Filing Requirements

Pursuant to §§ 1.415 and 1.419 of the Commission's rules, 47 CFR 1.415, 1.419, interested parties may file comments and reply comments in response to this further notice of proposed rulemaking on or before the dates indicated in the DATES section above. Comments may be filed using the Commission's Electronic Comment Filing System (ECFS). See Electronic Filing of Documents in Rulemaking Proceedings, 63 FR 24121 (1998).

• Electronic Filers: Comments may be filed electronically using the internet by accessing the ECFS: http://apps.fcc.gov/ecfs.

• Paper Filers: Parties who choose to file by paper must file an original and one copy of each filing.

○ Filings can be sent by commercial overnight courier, or by first-class or overnight U.S. Postal Service mail. All filings must be addressed to the Commission's Secretary, Office of the Secretary, Federal Communications Commission.

○ Commercial overnight mail (other than U.S. Postal Service Express Mail and Priority Mail) must be sent to 9050 Junction Drive, Annapolis Junction, MD 20701.

○ U.S. Postal Service first-class, Express, and Priority mail must be addressed to 45 L Street NE, Washington, DC 20554.

○ Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020), https://www.fcc.gov/document/fcc-closes-headquarters-open-window-and-changes-hand-delivery-policy.

Persons with Disabilities. To request materials in accessible formats for people with disabilities (braille, large print, electronic files, audio format), send an email to fcc504@fcc.gov or call the Consumer & Governmental Affairs Bureau at 202-418-0530 (voice), 202-418-0432 (tty).

Ex Parte Presentations

Pursuant to 47 CFR 1.1200(a), this proceeding will be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with 47 CFR 1.1206(b). In proceedings governed by 47 CFR 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Providing Accountability Through Transparency Act

The Providing Accountability Through Transparency Act, Public Law 118-9, requires each agency, in providing notice of a rulemaking, to post online a brief plain-language summary of the proposed rule. The required summary of this Further Notice of Proposed Rulemaking is available at https://www.fcc.gov/proposed-rulemakings.

Regulatory Flexibility Analysis

The Regulatory Flexibility Act of 1980, as amended (RFA), requires that an agency prepare a regulatory flexibility analysis for notice and comment rulemakings, unless the agency certifies that “the rule will not, if promulgated, have a significant economic impact on a substantial number of small entities.” The Commission has prepared an Initial Regulatory Flexibility Analysis (IRFA) concerning the potential impact of the rule and policy changes contained in the FNPRM. The IRFA is set forth in Section IV below. Written public comments are requested on the IRFA. Comments must be filed by the deadlines for comments on the FNPRM indicated on the DATES section of this document and must have a separate and distinct heading designating them as responses to the IRFA.

Paperwork Reduction Act

This document contains proposed modified information collection requirements. The Commission, as part of its continuing effort to reduce paperwork burdens, invites the general public and the Office of Management and Budget to comment on the information collection requirements contained in this document, as required by the Paperwork Reduction Act of 1995, Public Law 104-13. In addition, pursuant to the Small Business Paperwork Relief Act of 2002, Public Law 107-198, see 44 U.S.C. 3506(c)(4), the Commission seeks specific comment on how it might further reduce the information collection burden for small business concerns with fewer than 25 employees.

Synopsis

I. Introduction

1. In this document, the Federal Communications Commission (Commission) continues its long-standing practice of reviewing Commission licensing rules and practices in light of innovation and development in the satellite industry and seek further comment on possible further streamlining of Commission rules. Specifically, the Commission seeks further comment on several proposals raised by commenters in response to the NPRM, but which require more development of the record and opportunity for public input.

II. Background

2. As we enter the new space age, applications for space services before the Commission continue to increase in complexity and number. In response to this unprecedented era of growth in the space industry, the Commission launched the Space Bureau on April 11, 2023. Space activities are increasing in almost every industry sector. The Commission must, therefore, make expediting the processing of applications a priority of its Space Innovation Agenda. If the current rate of filings for applications continues in 2023, the Commission will receive approximately four times the number of space station applications and three times the number of earth station applications than it received in 2015. In addition, the complexity of applications continues to increase as new and novel space technologies are presented for consideration. The commercial space industry is evolving at a rapid pace, and it is critical that the Commission keeps up with the cadence of applications and complexity of regulatory issues presented.

III. Discussion

A. Allowing Additional Minor Modifications Without Prior Authorization

3. The Commission seeks comment on whether to expand upon the list of minor modifications that can be made by operators without prior authorization by the Commission. Currently, the section of the Commission's part 25 rules addressing minor modifications provides for various circumstances in which operators can make minor modifications without prior Commission approval. In response to the NPRM, numerous commenters suggest additions to this list of modifications. Intelsat proposes that earth station modifications including removal of a satellite point of communication or modification of an earth station's antenna identification should be included as minor modifications. SpaceX suggests that NGSO system operators should be able to modify space station antenna parameters without prior Commission authorization so long as those changes fall within the authorized parameters of the satellite system, with notice after the fact. Intelsat also suggests that the Commission consider revising the existing provision allowing certain relocation of GSO space stations with prior notification to the Commission to permit operation of service links during the drift period to the new location, rather than limiting operations to `tracking, telemetry, and command functions during the drift period.”

3. The Commission seeks comment on expanding the list of minor modifications not requiring prior authorization, and if it does expand this list, what the appropriate notification process should be. Should the Commission permit earth station operators to remove satellite points of communication and modify antenna identification without prior authorization? If so, should the additions be included in the existing provision allowing earth station licensees to make certain modifications without prior authorization provided that the licensee notify the Commission within 30 days of the modification? Or is a different notification process appropriate? What certifications should be made in connection with any notification? Should the Commission consider allowing satellite operators to change antenna parameters without prior authorization? If so, what notification process might be appropriate, and if so, what certifications should be required in connection with this type of modification? The Commission seeks comment by way of examples, information, and other data that would demonstrate that such a change would not require Commission prior approval. Are there types of space station antenna changes or other changes that should be excluded from potential consideration under this minor modification rule? For any proposed additions to the list of minor modifications, the Commission asks commenters to address how such minor modifications should be handled in the event of a temporary freeze on applications for new or modified space stations in a particular band.

4. Finally, the Commission seeks comment on Intelsat's proposal suggesting that operations beyond tracking, telemetry, and command functions (TT&C) should be able to continue during certain satellite drifts so long as the operator provides “certification that operations are limited to coordinated transmissions during the relocation and drift transition period.” The Commission observes that under current rules addressing certain GSO satellite relocations as minor modifications, the operators would be able to resume full satellite operations, including provision of service, once the space station arrives at its new destination without prior Commission approval, i.e. it may continue normal operations within the technical parameters authorized and coordinated for the space station previously assigned to that location. The Commission seeks comment on whether continued operations during relocation, provided the operator certifies that operations are limited to transmissions that have been coordinated with other potentially affected operators, would result in an important benefit to licensees? The Commission also seeks comment on any potential interference concerns that may arise during relocation and whether the risk of potential interference outweighs any temporary benefits to allow continued operations during drift. Would it be sufficient for the operator to conduct such operations on a non-interference, unprotected basis? Would any additional certifications to the Commission be required before the operator initiates the drift? Additionally, The Commission seeks comment on whether it should limit operations to instances of short drift periods only, e.g. less than 30-days total duration. Finally, the Commission seeks comment on additional conditions that might be appropriately placed on any operations during drift beyond TT&C to protect other operators in the GSO arc.

B. Market Access and Requests for Special Temporary Authority

5. In an effort to continue its streamlining goals, the Commission seeks further comment on the suggestion for a type of temporary authorization that could be sought by U.S. market access grantees whose operations are authorized through a space station grant. U.S. licensees may apply for an STA to operate under certain circumstances. Under current rules, market access grantees may file the equivalent of an amendment and a modification to petitions for declaratory ruling via § 25.137(e) and (f) respectively. However, although earth station licensees may request special temporary authority to reflect changes to the communications with non-U.S. licensed space stations, there is no such provision for an STA to be filed as part of the space station application process for market access grantees. This is consistent with the distinction between market access grants and licensees. Nonetheless, since the Commission frequently issues grants of U.S. market access to space station operators through action on petitions for declaratory ruling, the Commission seeks further comment on some type of special temporary grant that could be sought by the space station operator.

6. Nearly three decades ago the Commission began efforts to consider how to expand competition and provide opportunities for foreign entities to deliver satellite services in this country. This effort coincided with broader U.S. government negotiations through the World Trade Organization to establish the WTO Basic Telecom Agreement. In the order establishing rules to implement U.S. commitments to the WTO Basic Telecom Agreement, the Commission explained that “[e]nhanced competition in the U.S. market, in turn, will provide users more alternatives in choosing communications providers and services, as well as reduce prices and facilitate technological innovation.” The Commission further noted that “in addition to encouraging a more competitive satellite market in the United States, this new environment will spur development of broader, more global satellite systems[,]” and that “these advancements will foster greater global community benefits by providing users, ranging from individual consumers and businesses to schools and hospitals, increased access to people, places, information, and ideas worldwide.” The public interest goals articulated by the Commission at that time are just as relevant today. Additionally, as the Commission seeks to keep pace with the ever expanding satellite communications market, is continuously evaluating whether and where the Commission can streamline rules and procedures to provide for greater clarity and accessibility for applicants seeking to engage in satellite operations in the United States.

7. As such, the Commission seeks comment on whether it is in the public interest to amend Commission rules to allow for an equivalent to special temporary authority for space station market access grantees to communicate with U.S. licensed earth stations. For example, should the Commission include a new paragraph in § 25.137 to allow market access space station grantees to seek some type of temporary authorization related to their grant of market access? If so, would applications for such authority be subject to the Commission's application public notice requirements in all cases? Under any new process the Commission would continue to consider public interest factors in reviewing requests, and would treat market access applicant petitions for declaratory ruling the same as a satellite application, consistent with WTO commitments to treat non-U.S. satellite operators no less favorably than the Commission treats U.S. satellite operators. Alternatively, are the current procedures by which STA requests can be filed by earth station operators sufficient? The Commission invites comment.

C. Considering STA Extension Requests Concurrently With Initial STA Applications

8. In response to the NPRM, several commenters suggest that grants of STA should continue automatically while an underlying application is being considered. The Commission observed in the accompanying Report and Order that the Space Bureau's STA process stems from the Communications Act, which allows the Commission to grant STAs for up to 180 days if they are placed on public notice and to grant up to 30 and 60-day STAs in certain circumstances without public notice. SpaceX raises an additional proposal to allow operators to request multiple extensions of an initial 60-day STA as part of the same initial STA application. The Commission seeks comment on this proposal. Would such a process conform with statutory requirements under section 309(f) (e.g., the obligations for operators to file for an extension of an STA even though they would effectively do so at the same time and in the same application as the initial STA; authorizing the Commission to extend authorization of temporary operations for a period not exceeding 180 days and upon making like findings for an extension for additional periods) and section 309(c)(2)(G) (e.g., allowing the Commission to grant up to 30 and 60-day STAs in certain circumstances without public notice)? Are there public interest or policy concerns that are implicated by allowing automatic extensions of STAs while an underlying application is being considered? Additionally, the Commission seeks comment on whether allowing such a process might present conflict or confusion with regard to the provisions of the Communications Act regarding STAs and the assessment of filing fees.

D. Expanding Timeframes for Filing License Renewal Applications

9. In response to general streamlining queries in the NPRM, the Commission received a suggestion to expand or eliminate the current 60-day window for earth station licensees to submit a renewal application. Under current Commission rules, earth station license holders may seek a renewal of their license between 90 and 30 days prior to their license expiration. Intelsat suggests that the Commission remove this 60-day window, or in the alternative, provide operators a 365-day window in the year leading up to the license expiration. The Commission notes that renewal applications must be placed on a 30-day public notice and tentatively declines to expand the renewal application period up to the license expiration date, as this change would create a potentially larger administrative burden for Commission staff reviewing applications. Nonetheless, the Commission believes that a longer window for filing renewals could provide more flexibility for operators without negatively impacting Commission processing. As such, the Commission proposes to amend its rules to expand the window for earth station operators to file an application for renewal from no earlier than 180 days, and no later than 30 days, prior to the expiration of the existing license. The Commission seeks comment on this proposal and any alternatives.

10. The Commission notes that NGSO space station licensees are required to file applications for renewal no earlier than 90 days, and no later than 30 days, prior to the end of the twelfth year of the existing 15 year license term. The Commission seeks comment on whether it should consider similarly expanding the filing window within the twelfth year of the existing term for these space station operators as another means of providing flexibility and streamlining the application process. For example, should the Commission amend its rules to include a window of no earlier than 180 days and no later than 30 days prior to the end of the twelfth year of the license for filing a renewal? The Commission seeks comment this proposal as well as any alternatives.

E. Timing for Completion of Application Review

11. In the NPRM, the Commission briefly sought comment on timeframes for application review, including whether to impose shot clocks for final action on certain types of satellite or earth station applications. As noted in the accompanying Report and Order, the record on this issue was divided on whether the Commission should consider shot clocks, and if so, for what types of applications and for what length of time.

12. Given the significant additional volume of space and earth station applications in today's burgeoning satellite service market and the Commission's goals of supporting innovation in space, the Commission believes it is imperative to seek additional comment on this issue. The Commission also notes that it has considered such timelines and shot clocks in other contexts, such as for the processing of applications related to major transactions and state and local review of applications for siting of wireless facilities, and may consider how such contexts are applicable or distinct from the needs of satellite operators and the unique complexities of space and earth station operation considerations. In support of this inquiry, the Commission seeks further comment on any relevant comparisons to other forms of timelines and shot clocks that could shed light on this inquiry. Additionally, the Commission notes that satellite licensing often requires coordination with federal entities in order to protect U.S. national interests, as well as international considerations, to comply with ITU obligations, for example. The Commission is also subject to various statutory requirements. The Commission seeks input on these considerations and how they should affect the consideration of shot clocks or other specific timeframes. The Commission seeks comment, data, and information on circumstances, such as the need for operators to file amendments to their application, that would need to be considered in developing an appropriate timeline for shot clocks or other specific timeframes for action on the merits. What events would warrant pausing the clock? Should the clock run during a public notice period, for example? In the context of shot clocks, the Commission also seeks comment on whether applications would be deemed granted at the close of the relevant time period, or if the Commission should revise its dismissal criteria or other practices, in order to meet potential shot clock obligations. Finally, while the record on this issue was inconclusive on the appropriate use of shot clocks, the Commission will continue to gather data on applications and processing timelines that could inform on the appropriate length of future shot clocks.

F. Earth Station Licensing Without an Identified Satellite Point of Communication

13. In the NPRM the Commission asked whether it should consider allowing earth station operators to receive a license without having first identified a satellite point of communication. The Commission received limited, but supportive comments for creating such a procedure. The Commission seeks to expand the record on this issue, considering what some operators have described as “ground stations as a service” (GSaaS) operations in particular. The Commission tentatively concludes that issuing a limited license for earth station operators who do not yet have an identified point of communication would align with the Commission's goals to support innovation in the satellite industry and increase accessibility to services. However, the Commission envisions that such a license would need to be limited and include a mechanism for modification once a point of communication has been established, prior to initiation of operations. In addition, for frequency bands shared with terrestrial systems (for example, bands shared with point-to-point microwave stations licensed under Part 101 of the Commission's rules), the Commission is not proposing to confer first-in-time rights to earth stations without an identified satellite point of communication on what could effectively be a multi-band, full-arc basis. Furthermore, in bands shared with UMFUS, earth stations would need to make a showing under § 25.136 of the Commission's rules in order to limit their obligation to protect UMFUS or to receive interference protection. The Commission seeks comment on how this process may affect coordination processes. The Commission proposes to create a new provision in Commission rules that would allow earth station operators to apply for and receive a limited license under the condition that the license will require modification prior to operations with a specific point of communication, unless the point of communication is already on the Permitted List and the operations fit within the parameters specified therein. The Commission seeks comment on this proposal, as well as on any alternatives to facilitate licensing where a satellite point of communication has not been identified, or perhaps a point of communication has been identified but a space station application has not yet been granted.

G. Feasibility of a Permitted List for NGSO Operators

14. In response to the NPRM, commenters suggested the Commission consider allowing earth station applicants to specify that they will communicate with certain authorized NGSO systems, in a procedure similar to the Permitted List, which is currently available to routinely granted earth station operators for communications with GSO space stations that are licensed by the FCC or that have been granted U.S. market access, and that provide fixed-satellite service in certain frequency bands where GSO fixed-satellite service has primary status. The Commission seeks comment on this suggestion.

H. Inter-Bureau and Inter-Agency Review and Coordination Streamlining

15. In the NPRM the Commission sought comment on various coordination considerations, including how the Commission might better streamline inter-Bureau reviews in shared-spectrum bands, and how the Commission might eliminate duplicative coordination requirements. Although the Commission did not specifically ask about it, multiple commenters offered suggestions on streamlining the inter-agency coordination and review process with NTIA. The Commission seeks to further expand the record on coordination considerations and the suggestions raised by commenters.

16. With respect to the coordination within the Commission, for coordination with other bureaus and offices, several commenters suggested updates to timeframes, or other limitations on inter-bureau review. Recognizing the establishment of the Space Bureau, the Commission expects that the Bureau will continue to look at means to make the inter-bureau and office coordination process more efficient, taking into consideration certain types of applications and the unique issues that those applications present from a coordination perspective. The Commission notes that such improvements to the inter-bureau coordination process do not require any rule changes. The Commission will plan, however, to continue the practice of conducting coordination at the bureau/office level once the draft authorization, including proposed conditions, is ready to share within the Commission and to pursue ways to improve the internal coordination processes.

17. Several commenters also offered suggestions to improve the inter-agency coordination process. Often, applications must be coordinated with NTIA because the applicant requests use of a frequency band that is also allocated for use by Federal stations. The Commission notes as a general matter that broader issues regarding coordination are addressed through the Memorandum of Understanding (MOU) between the Commission and NTIA. At the bureau level, the Space Bureau facilitates the coordination process by engaging directly with NTIA both for earth stations and space stations applications, as well as applications for special temporary authority in certain instances. The bureau-level coordination process varies slightly depending on the type of application presented for review.

18. Among the suggestions on the record, SpaceX states that the Commission could streamline coordination, in particular for earth station applications, by preparing specific shared databases for coordination and by adopting a “green light/yellow light” system for coordination with federal users. Similarly, Turion Space argues that standardized input documents and processing would ease the inter-agency application coordination process. Intelsat suggests that applications that have been pre-coordinated between an applicant and federal user should not require an additional referral from the Commission to NTIA and otherwise suggests that the Commission consider automating the referral process and eliminating manual data entry. SIA suggests that the Commission provide applicants with NTIA contact information or share specifics of concerns raised by NTIA during the application review process so that applicants can address any concerns expeditiously. AWS proposes that the Commission provide applicants with a template and guidance for the information needed for NTIA coordination. Some commenters also suggest that coordination and review would be faster if applications are sent to other reviewers as soon as they are filed or as soon as they are placed on public notice. To the extent that such a practice would involve the inter-agency coordination process, the Commission observes that sending a large amount of application information for coordination to NTIA without direction from the Bureau on what the yet-to-be-proposed authorization would entail has the potential to encumber review and slow down deliberations on the application. Therefore, the Commission will plan to continue the practice of conducting coordination once the draft authorization, including proposed conditions, is ready to share with NTIA reviewers.

19. As part of the transparency initiative described above, there may be opportunities to provide additional information to applicants regarding processes for the coordination of specific application requests. The Commission does not seek to unilaterally adopt changes to the overall inter-agency coordination process. The Commission further notes the interests of NTIA and appropriate federal stakeholders in the process and recognize that implementation may not be achievable considering technological limitations and various agency security needs. However, the Commission agrees with commenters that providing increased information regarding federal coordination may aid in streamlining the application process. Commission staff will continue to engage in their regular and ongoing dialogue with colleagues at NTIA and other federal agencies to identify and consider ways to improve the inter-agency coordination process. In support of such discussions, the Commission seeks comment on the proposals above made by commenters, as well as any additional proposals for improvements regarding inter-agency coordination of space station and earth station applications.

I. Eliminating Potentially Duplicative Coordination Requirements

20. The Commission seeks further comment on whether it can further streamline some of the coordination requirements for earth and space station operators in instances in which the earth station and space station sides must engage in potentially duplicative coordination. In the NPRM the Commission asked about any duplicative coordination processes that could be streamlined and received several comments pointing to areas in which earth and space station applications are part of separate coordinations related to the same underlying set of operations. AWS suggests that the Commission could reduce duplicative coordination in cases where a space station's downlinks have already been coordinated and the same frequencies and points of communication corollate with earth station applications and provided an example of the requirements for EESS operators in the X-band (8025-8400 MHz). Similarly, Microsoft asserts that authorization process for communications in the S-, X-, and Ka-bands between EESS space stations and earth stations requires a space station operator to engage in the same coordination to add an earth station to its authorized list that an earth station operator is also required to engage in to add the space station to its authorized list.

21. The Commission seeks comment on how to expedite the coordination process where the Commission has already required a space-station operator to coordinate its communications with each earth station, for operations where the space station operator has identified earth stations and where such a list of such earth stations is provided to NTIA during the space station licensing process or coordinated with NTIA after licensing. Specifically, the Commission considers whether it is possible to coordinate the earth station sites and frequencies utilized with those earth stations once, as part of either just the space station or earth station coordination with NTIA? Again, the Commission does not seek to change these processes unilaterally and note this will involve continued dialogue to assess whether such changes are feasible given the need to coordinate operations in frequency bands that are shared with federal users. If the Commission determines that such streamlining is possible, the Commission seeks comment on how to ensure that the earth stations have been previously coordinated. For example, should the Commission allow earth station applicants to certify that a new satellite point of contact the earth station operator seeks to add has already been coordinated with NTIA in the relevant frequency bands in connection with a space station application? Additionally, the Commission seeks further comment on any additional situations in which identical coordination is required and could be eliminated without creating any gaps in coordination and interference protection.

J. Earth Station Applications Adding a Satellite Point of Communication

22. The Commission also inquires as to how this proposal on eliminating potentially duplicative coordination may affect the new streamlined modification procedure for earth station operators adding points of communication that was adopted in the accompanying Order. While the Commission has initially determined that this new, deemed-granted process can move forward in the limited set of circumstances identified in the Report and Order at this time, the Commission seeks to expand the record on this issue to determine whether and how it might be able to broaden the universe of operators that could access the new process created in § 25.117(i). For example, should the Commission enable earth station licensees operating in bands shared with federal users to take advantage of the streamlined modification procedure to add a new point of communication that has already been coordinated with federal users through the space station licensing process? Assuming that the Commission determines that coordinating certain earth stations with federal users through the space station process is possible, are there other change to Commission licensing rules should be considered? Similarly, should the Commission allow operators in a band shared with non-federal services to take advantage of this expedited process if they certify, or otherwise demonstrate, that they have successfully completed coordination with other users prior filing their application? Are there any other mechanisms that could be implemented to expand access to this process without creating new interference concerns or circumventing the need for coordination in shared bands?

23. Additionally, the Commission seeks further comment on whether expedited treatment might be appropriate in bands that require coordination, even without a demonstration of pre-coordination, if applicants must demonstrate both that the addition of a new point of communication will not cause earth station transmissions to exceed the highest equivalent EIRP, EIRP density, and bandwidth prescribed for any already authorized emission, and that the modification would not cause earth station to repoint the earth station's antenna beyond any coordinated range. If so, for what subset of applications subject to coordination would expedition be appropriate, and would a mechanism of expedition short of a “deemed grant” be better suited to those applications? Whether such applications are eligible for a “deemed grant” or otherwise expedited, what processing timeframe would be realistic to ensure any required coordination is completed? With respect to federal coordination in particular, how can the Commission ensure that expedition does not unreasonably or unilaterally curtail the federal coordination review process given the important scientific, safety, and security-related federal operations at play? Finally, if the Commission expands the list of applicants who could access this deemed-granted process to include bands that are shared with other services and additional operators, the Commission seeks comment on whether a notification process rather than public notice may be appropriate in some circumstances, and on how to address objections or other comments that may be filed.

K. Eliminating Printed, Hardcopies Requirement

24. Intelsat suggests eliminating a current part 25 rule that requires operators to keep an original paper copy of an electronically filed application. The Commission agrees that this requirement, found in § 25.110(e) of Commission rules, is outdated and unnecessary and therefore proposes to amend the rules to eliminate this procedural requirement. Applicants of course are free to continue such practice if they so choose, but the Commission believes that removal of the requirement would fit squarely into its application streamlining goals as well as conform with long-standing broader government initiatives to reduce reliance on hard copy paper filings. The Commission seeks comment on this proposed change.

L. Change of Default Ex Parte Status of Space and Earth Station Applications

25. The Commission proposes to change the default status of all space and earth station applications from “restricted” to “permit but disclose” under Commission rules governing ex parte presentations and seeks comment on this proposal. Currently, space and earth station applications are by default classified as “restricted” proceedings under the rules, since they are applications for authority under Title III of the Communications Act, and ex parte presentations are prohibited. Commission rules regarding ex parte presentations give Commission staff discretion to modify applicable ex parte rules, where it is in the public interest to do so in a particular proceeding, and Commission staff has frequently done so, sometimes at the request of parties. The reasons for changing the ex parte status of a particular application can include, but are not limited to, the fact that the application covers the same subject area as a related rulemaking proceeding, or the topic to be discussed in a particular application has applicability across a wide number of applications. The change of status of an application from “restricted” to “permit-but-disclose” requires resources to draft and release an order, letter, or public notice. Modifying the ex parte status of an application is an ancillary task that requires Space Bureau resources that could otherwise be spent on placing applications on public notice or acting on the merits of applications. In addition, applicants—especially new space industry entrants or entrants from countries outside the United States—are often unaware of the Commission's ex parte rules and can inadvertently make impermissible presentations in restricted proceedings, which further diverts staff resources from processing applications.

26. The Commission proposes to amend part 1 of the rules by adding “applications for space and earth station authorizations, including requests for U.S. market access through non-U.S. licensed space stations” to the list of proceedings that are “permit-but-disclose” proceedings from the outset. Specifically, the Commission would propose to amend § 1.1206(a) by adding a new subparagraph. As “permit-but-disclose” proceedings, applications for space and earth station authorizations would be subject to the disclosure requirements that apply to ex parte presentations in such proceedings. The Commission seeks comment on this proposed implementation.

IV. Initial Regulatory Flexibility Analysis

27. As required by the Regulatory Flexibility Act (RFA), the Commission has prepared this Initial Regulatory Flexibility Analysis (IRFA) of the possible significant economic impact on a substantial number of small entities by the policies and rules proposed in the Further Notice of Proposed Rulemaking (FNPRM). The Commission requests written public comments on this IRFA. Comments must be identified as responses to the IRFA and must be filed by the deadlines provided on the first page of the FNPRM. The Commission will send a copy of the FNPRM, including this IRFA, to the Chief Counsel for Advocacy of the Small Business Administration (SBA).

A. Need for, and Objectives of, the Proposed Rules

28. In recent years, the Commission has received an unprecedented number of applications for earth and space station licenses. The FNPRM continues to and will facilitate the application streamlining process and promote competition and innovation among satellite and earth station operators, including the market entry of new competitors. The FNPRM seeks public comment on proposed revisions to the Commission's rules governing satellite and earth station applications under 47 CFR part 25. Specifically, the FNPRM proposes to eliminate the procedural burden of printing and maintaining a paper copy of license applications by removing and reserving § 25.110(e) and amend § 25.118 of the Commission's rules, which allows operators to make certain minor modifications without prior authorization from the Commission. In addition, the FNPRM proposes to create a new provision in Commission rules that would allow earth station operators to apply for and receive a limited license under the condition that the license will require modification prior to operations with a specific point of communication, unless the point of communication is already on the Permitted List and the operations fit within the parameters specified therein. Further, the FNPRM seeks comment on whether to provide an equivalent to special temporary authority for space station market access grantees to communicate with U.S. licensed earth stations. The FNPRM also seeks comment on whether to expand the window for operators to file renewal applications for existing licenses. Additionally, the FNPRM seeks further comment on whether the Commission can further streamline some of its coordination requirements for earth and space station operators in instances in which the earth station and space station sides must engage in potentially duplicative coordination. And, finally, the FNPRM proposes to change the default status of space and earth station proceedings to permit-but-disclose as a means of further streamlining the licensing process.

B. Legal Basis

29. The proposed action is authorized under sections 4(i), 7(a), 301, 303, 307, 308(b), 309, 310, 332, of the Communications Act of 1934, as amended, 47 U.S.C. 154(i), 157(a), 301, 303, 307, 308(b), 309, 310, 332.

C. Description and Estimate of the Number of Small Entities to Which the Proposed Rules Will Apply

30. The RFA directs agencies to provide a description of, and where feasible, an estimate of the number of small entities that may be affected by the proposed rules and policies, if adopted. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA.

31. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $38.5 million or less in annual receipts as small. U.S. Census Bureau data for 2017 show that 275 firms in this industry operated for the entire year. Of this number, 242 firms had revenue of less than $25 million. Additionally, based on Commission data in the 2022 Universal Service Monitoring Report, as of December 31, 2021, there were 65 providers that reported they were engaged in the provision of satellite telecommunications services. Of these providers, the Commission estimates that approximately 42 providers have 1,500 or fewer employees. Consequently, using the SBA's small business size standard, a little more than half of these providers can be considered small entities.

32. All Other Telecommunications. The “All Other Telecommunications” category is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing internet services or voice over internet protocol (VoIP) services via client-supplied telecommunications connections are also included in this industry. The SBA has developed a small business size standard for “All Other Telecommunications,” which consists of all such firms with annual receipts of $35 million or less. For this category, U.S. Census Bureau data for 2012 show that there were 1,442 firms that operated for the entire year. Of those firms, a total of 1,400 had annual receipts of less than $25 million and 15 firms had annual receipts of $25 million to $49,999,999. Thus, the Commission estimates that the majority of “All Other Telecommunications” firms potentially affected by Commission action can be considered small.

D. Description of Projected Reporting, Recordkeeping, and Other Compliance Requirements for Small Entities

33. The FNPRM seeks public comment on proposed revisions to the Commission's rules governing satellite and earth station applications under 47 CFR part 25. Specifically, the FNPRM proposes to eliminate the procedural burden of printing and maintaining a paper copy of license applications by removing and reserving § 25.110(e) and amend § 25.118 of the Commission's rules, which allows operators to make certain minor modifications without prior authorization from the Commission. In addition, the FNPRM proposes to create a new provision in Commission rules that would allow earth station operators to apply for and receive a limited license under the condition that the license will require modification prior to operations with a specific point of communication, unless the point of communication is already on the Permitted List and the operations fit within the parameters specified therein.

34. Further, the FNPRM seeks comment on whether to provide an equivalent to special temporary authority for space station market access grantees to communicate with U.S. licensed earth stations. The FNPRM also seeks comment on whether the Commission could allow operators to file STA extensions concurrently with an STA application. Additionally, the FNPRM seeks comment on whether to consider a permitted list type process for NGSO operators. The FNPRM also seeks comment on whether to expand the window for operators to file renewal applications for existing licenses and asks about establishing timeframes for action on the merits of applications. Additionally, the FNPRM seeks further comment on whether the Commission can further streamline some of its coordination requirements for earth and space station operators in instances in which the earth station and space station sides must engage in potentially duplicative coordination and expand the possibilities for earth station operators to take advantage of the new, expedited deemed-granted process for adding points of communication. And, finally, the FNPRM proposes to change the default status of space and earth station proceedings to permit-but-disclose as a means of further streamlining the licensing process.

35. In the FNPRM, the Commission seeks comment on whether any of the burdens associated with the filing, recordkeeping and reporting requirements can be minimized for small entities. The Commission therefore expects the information received in comments to include cost and benefit data, and to help the Commission further identify and evaluate relevant matters for small entities, including compliance costs, and other burdens that may result from the proposals and inquiries the Commission makes in this proceeding.

E. Steps Taken To Minimize Significant Economic Impact on Small Entities, and Significant Alternatives Considered

36. The RFA requires an agency to describe any significant, specifically small business, alternatives that it has considered in reaching its proposed approach, which may include the following four alternatives (among others): “(1) the establishment of differing compliance or reporting requirements or timetables that take into account the resources available to small entities; (2) the clarification, consolidation, or simplification of compliance and reporting requirements under the rules for such small entities; (3) the use of performance rather than design standards; and (4) an exemption from coverage of the rule, or any part thereof, for such small entities.”

37. In the FNPRM, the proposal to remove and reserve § 25.110(e) should minimize the economic impact for small entities by eliminating the administrative burdens associated with printing and maintaining a paper copy of license applications. Likewise amending § 25.118 of the Commission's rules to allows operators to make certain minor modifications without prior authorization from the Commission should reduce administrative costs for small entities. In addition, small entities should benefit if the proposal to add a provision allowing earth station operators to apply for and receive a limited license under the condition that the license will require modification prior to operations with a specific point of communication, subject to the limitations described above in section A, is adopted.

38. An alternative the Commission considered and seeks comment on involved the elimination of potentially duplicative coordination requirements. More specifically, the Commission inquired if some of its coordination requirements for earth and space station operators in situations where the earth station and space station sides must engage in potentially duplicative coordination can be streamlined. The Commission also considered whether or not to expand timeframes for filing license renewal applications in efforts to provide small and other entities flexibility, and further streamline the application process. The Commission considers whether or not to expand the renewal filing window of the existing term for earth and space station operators.

39. The Commission also considers the possibility of allowing applicants to file STAs concurrently with an initial application, which may reduce filing burdens on small entities in particular. And the Commission is considering several possibilities for expanding the universe of operators who could access a streamlined process for adding satellite points of communication, which could also provide a benefit to a greater number of entities. And in considering timelines for taking action, including possible shot clocks, the Commission asks several questions to consider whether timeframes, and which timeframes are appropriate.

40. The Commission projects that the changes considered in the FNPRM will be cost-neutral or result in lower costs for small entities and other operators. Additionally, while the Commission believes the possible rule changes considered in the FNPRM will generally reduce costs and burdens for the regulated community, the Commission seeks comment on whether any of the costs associated with any possible rule changes would have a significant negative economic impact on small entities. The Commission expects to more fully consider the economic impact and alternatives for small entities based on its review of the record and any comments filed in response to the FNPRM and this IRFA.

F. Federal Rules That May Duplicate, Overlap, or Conflict With the Proposed Rules

41. None.

V. Ordering Clauses

42. It is ordered, pursuant to Sections 4(i), 7(a), 301, 303, 307, 309, 310, and 332 of the Communications Act of 1934, as amended, 47 U.S.C. 154(i), 157(a), 301, 303, 307, 309, 310, 332, that this Further Notice of Proposed Rulemaking is adopted.

43. It is further ordered that the Office of the Secretary, shall send a copy of this Further Notice of Proposed Rulemaking, including the Initial Regulatory Flexibility Analyses, to the Chief Counsel for Advocacy of the Small Business Administration, in accordance with Section 603(a) of the Regulatory Flexibility Act, 5 U.S.C. 601 et seq.

Federal Communications Commission.
Marlene Dortch,
Secretary.

For the reasons discussed in the document, the Federal Communications Commission proposes to amend 47 CFR parts 1 and 25 as follows:

PART 1—PRACTICE AND PROCEDURE

1. The authority citation for part 1 continues to read as follows:

Authority: 47 U.S.C. chs. 2, 5, 9, 13; 28 U.S.C. 2461.

2. Amend § 1.1206 by adding paragraph (a)(14) to read as follows:

§ 1.1206 Permit-but-disclose proceedings.

(a) * * *

(14) Applications for space and earth station authorizations, including requests for U.S. market access through non-U.S. licensed space stations.

* * * * *

PART 25—SATELLITE COMMUNICATIONS

3. The authority citation for part 25 continues to read as follows:

Authority: 47 U.S.C. 154, 301, 302, 303, 307, 309, 310, 319, 332, 605, and 721, unless otherwise noted.

§ 25.110 [Amended]

4. Amend § 25.110 by removing and reserving paragraph (e).

[FR Doc. 2023-26700 Filed 12-7-23; 8:45 am]

BILLING CODE P